DEPARTMENT OF LABOR

Office of the Secretary

Submission for OMB Review; Comment Request

October 25, 2004.

The Department of Labor (DOL) has submitted the following public information collection request (ICR) to the Office of Management and Budget (OMB) for review and approval in accordance with the Paperwork Reduction Act of 1995 (Pub. L. 104-13, 44 U.S.C. Chapter 35). A copy of each ICR, with applicable supporting documentation, may be obtained by contacting the Department of Labor (DOL). To obtain documentation, contact Ira Mills on 202-693-4122 (this is not a toll-free number) or e-mail: mills.ira@dol.gov.

Comments should be sent to Office of Information and Regulatory Affairs, Attn: OMB Desk Officer for DOL, Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration.

Type of Review: New Collection.

Title: Supplementary Survey on Unemployment Insurance Non-Fliers.

OMB Number: 1205-0NEW.

Frequency: Other; One-time collection.

Affected Public: Individuals or households.

Number of Respondents: 6,000.

Number of Annual Responses: 6,000.

Total Burden Hours: 100.

Estimated Time Per Response: 1 minute.

Total annualized capital/startup costs: $0.

Total annual costs (operating/maintaining systems or purchasing services): $0.

Description: This clearance package seeks approval for a supplemental survey on Unemployment Insurance (UI) Non-Filers to be conducted with the Current Population Survey (CPS), as part of the evaluation of the UI program. The purpose of the UI evaluation is to provide detailed, empirical information on the effectiveness and impact of the UI benefits program. The evaluation will identify changes in the labor market, population and economy pertinent to the UI program; detailed characteristics of who received and does not receive UI benefits; the macro- and micro-economic impacts of the program; and UI's role in preventing dispersal of workers, sacrifice of skills and breakdowns in labor standards. Overall, the evaluation is intended to provide fresh data and analysis that can be used in developing policy and in planning future research, including demonstration projects. As part of the evaluation, this UI non-filer supplement will address how often and why unemployed individuals choose not to apply for unemployment benefits. The first UI non-filer supplement was conducted in late 1989 and early 1990 (OMB Number 1220-0122 Expired 3/31/90), and the second was conducted in 1993 (OMB Number 1220-0122 Expired 1/31/94).

This supplement, which will take place more than 10 years after the last supplement, will provide the U.S. Department of Labor with the necessary data to evaluate and help improve the UI program.

Ira L. Mills,
Departmental Clearance Officer.

[FR Doc. 04-24393 Filed 11-1-04; 8:45 am]

BILLING CODE 4510-26-P